DEPARTMENT OF THE INTERIOR

Bureau of Land Management

[UT-020-03-2640-HO-UTZA]

Notice

AGENCY: Bureau of Land Management, Interior.

ACTION: Notice of availability.

SUMMARY: Notice is hereby given that an administrative settlement agreement under the Comprehensive Environmental Response Compensation and Liability Act is available for public comment.

SUPPLEMENTARY INFORMATION: Under section 122(i) of the Comprehensive Environmental Response, Compensation, and Liability Act (“CERCLA”), 42 U.S.C. 9622(i), notice is hereby given that on October 30, 2002, the Bureau of Land Management (“BLM”), by and through the Department of the Interior and with the concurrence of the Department of Justice, signed a proposed administrative settlement agreement (“Agreement”) concerning the Manning Canyon Mill Site (“Site”) located near Fairfield, Utah.

The Site comprises public land managed by the BLM and private land owned by Leo Ault, Howard Ault, Louis O. Ault, Leonard Ault, and Virginia A. Coleman (collectively hereinafter the “Ault family”). A milling facility located at the Site produced approximately 720,000 cubic yards of tailings and other mine wastes between 1890 and 1937. These tailings were disposed of in tailings impoundments behind earthen dams that subsequently breached, allowing tailings to migrate down gradient from the Site. BLM and the U.S. Environmental Protection Agency conducted a preliminary assessment of the tailings impoundments on-Site as well as downstream areas to which tailings had migrated. BLM completed a site inspection in September, 1999. Sampling results revealed elevated levels of lead, mercury, arsenic and other hazardous substances in the tailings. BLM performed an engineering evaluation/cost analysis (“EE/CA”) of response alternatives and, by action memorandum dated May 8, 2001, selected a non-time-critical removal action from among the alternatives analyzed. BLM is currently implementing this removal action by which an engineered tailings repository will be built on-Site to consolidate tailings in order to prevent future migration of or exposure to hazardous substances. BLM expects that this removal action will fully protect human health and the environment from risks associated with hazardous substances at the Site.

Through the proposed Agreement the United States and the Ault family would resolve the alleged liability of the Ault family under section 107 of CERCLA, 42 U.S.C. 9607. The Ault family would provide resources and materials needed to implement the removal action. In addition, the proposed Agreement would authorize BLM to construct a portion of the tailings repository on Ault family property. The BLM estimates that the proposed Agreement with the Ault family will reduce the total response costs incurred to clean up the Manning Canyon Mill Site by approximately $4.5 million.

The BLM will receive comments on the proposed Agreement for a period of 30 days from the date of this publication. Comments should refer to the Manning Canyon Mill Site. The proposed Agreement may be examined at the BLM Salt Lake Field Office. A copy of the proposed Agreement may also be obtained from the BLM Salt Lake Field Office upon request. Comments or requests to obtain a copy of the proposed Agreement should be addressed to: Tim Ingwell, BLM Salt Lake Field Office, 2370 South 2300 West, Salt Lake City, UT 84119, (801) 977-4353.

Dated: December 5, 2002.
Glenn A. Carpenter,
Field Office Manager.

[FR Doc. 03-2368 Filed 1-31-03; 8:45 am]

BILLING CODE 4310-$$-P